DEPARTMENT OF AGRICULTURE

Forest Service

Plumas County Resource Advisory Committee (RAC)

AGENCY: Forest Service, USDA.

ACTION: Notice of meetings.

SUMMARY: The Plumas County Resource Advisory Committee (RAC) will hold a meeting on May 30, 2002, in Quincy, California. The purpose of the meeting is to evaluate final proposals for recommendation to the Plumas National Forest Supervisor for funding/implementation under the Title 2 provisions of the Secure Rural Schools and Community Self-Determination Act of 2000.

DATES AND ADDRESSES: The meeting will take place from 9-4 p.m., in the Mineral Building at the Plumas-Sierra County Fairgrounds, 204 Fairgrounds Road, Quincy, California.

FOR FURTHER INFORMATION CONTACT: Lee Anne Schramel Taylor, Forest Coordinator, USDA, Plumas National Forest, P.O. Box 11500/159 Lawrence Street, Quincy, CA 95971; (530) 283-7850; or by e-mail eataylor@fs.fed.us.

SUPPLEMENTARY INFORMATION: Agenda items for the meeting include: (1) Review applicable sections of the Secure Rural Schools and Community Self-Determination Act of 2000, regarding project recommendations; (2) Discuss & approve project selection process, (3) Discuss & select projects to recommend to the Forest Supervisor for funding; (4) Discuss & confirm logistics for forwarding recommended projects to Forest Supervisor (FS) and to project proponents following FS approval; and (5) Future meeting schedule/logistics/agenda.

The meeting is open to the public and individuals may address the Committee after being recognized by the Chair.

Dated: May 10, 2002.
Fred J. Krueger,
Public Services Staff Officer.

[FR Doc. 02-12930 Filed 5-22-02; 8:45 am]

BILLING CODE 3410-11-M